DEPARTMENT OF DEFENSE

Department of the Navy

Notice of Public Hearings for the Swimmer Interdiction Security System at Naval Base Kitsap—Bangor, Kitsap County, WA Draft Environmental Impact Statement

AGENCY: Department of the Navy, DoD.

ACTION: Notice.

SUMMARY: Pursuant to section 102(2)(c) of the National Environmental Policy Act (NEPA) of 1969 (42 United States Code [U.S.C.] 4321); the Council on Environmental Quality (CEQ) Regulations for implementing the procedural provisions of NEPA (Title 40 Code of Federal Regulations [CFR] Parts 1500-1508); Department of the Navy Procedures for Implementing NEPA (32 CFR 775); Executive Order (EO)12114, Environmental Effects Abroad of Major Federal Actions; and Department of Defense (DoD) regulations implementing EO 12114 (32 CFR Part 187), the Department of the Navy (Navy) has prepared and filed with the U.S. Environmental Protection Agency a Draft Environmental Impact Statement on December 17, 2008.

The DEIS evaluates the potential environmental impacts associated with construction and operation of a Swimmer Interdiction Security System at Naval Base Kitsap—Bangor (NBK—Bangor). A Notice of Intent for this Draft EIS was published in the Federal Register on February 12, 2007 (volume 72, number 28).

The Navy will conduct two public hearings to receive oral and written comments on the Draft EIS. Federal agencies, state agencies, Tribal Governments and local agencies and interested individuals are invited to be present or represented at the public hearings. This notice announces the dates and locations of the public hearings for this Draft EIS.

An open house session will precede the scheduled public hearing at each of the locations listed below and will allow individuals to review the information presented in the Draft EIS. Navy representatives will be available during the open house sessions to clarify information related to the Draft EIS.

DATES AND ADDRESSES: Both meetings will start with an open house session from 5 p.m. to 6:30 p.m. A presentation and formal public comment period will be held from 7 p.m. to 9 p.m. Public hearings will be held on the following dates and at the following locations:

1. February 11, 2009, Silverdale Community Center, 9729 Silverdale Way, NW, Silverdale, WA.

2. February 12, 2009, Tyee High School, 4424 S. 188th, SeaTac, WA.

FOR FURTHER INFORMATION CONTACT: Department of the Navy, SSC Pacific, 53560 Hull St., San Diego, CA, 92152, Attn: Mike Rothe Fax: 619-221-5251, e-mail: NBKEIS@spawar.navy.mil or http://www.nbkeis.gcsaic.com.

SUPPLEMENTARY INFORMATION: The proposed action is to install and operate a Swimmer Interdiction Security System (SISS) along the waterfront on Hood Canal at NBK-Bangor.

The purpose of the proposed action is to provide waterside security at NBK-Bangor capable of countering threats from intruders. The implemented system must be able to find, identify, and interdict surface and underwater intruders for engagement by harbor security forces. Several classified Navy instructions establish requirements for security and protection of assets at Navy bases, including NBK-Bangor. The project need is to comply with these Navy security requirements.

Three action alternatives have been identified as well as a no action alternative:

• Marine Mammal Alternative: This alternative would be composed of human/marine mammal teams that would support Navy operations and respond rapidly to security alerts. The system would involve stationing California sea lions, Atlantic bottlenose dolphins and human teams at the site. The animals would reside within in-water, closed circuit enclosures attached to a dock that would be connected to an existing pier at the NBK-Bangor waterfront. Upland temporary buildings would house support personnel and equipment. The Navy marine mammals would be deployed along the waterfront in conjunction with humans aboard small power boats. The marine mammals would respond to security alerts by finding, identifying, and interdicting intruder(s).

• Sea Lions Only Alternative: This alternative would be composed of human/sea lion teams that would support Navy operations and respond rapidly to security alerts. The system would involve stationing California sea lions and human teams at the site. Upland temporary buildings would house support personnel and equipment. The sea lions would reside within in-water, closed-circuit enclosures attached to a dock that would be connected to an existing pier at the NBK-Bangor waterfront, and would be deployed along the waterfront in conjunction with humans aboard small power boats. The sea lions would respond to security alerts by finding, identifying, and interdicting intruder(s). This system lacks the biosonar of the dolphins and therefore this alternative would rely heavily on the initial NBK-Bangor detection and vectoring system to interdict intruders.

• Combat Swimmers Alternative: Combat swimmers would be stationed at an existing pier at the NBK-Bangor waterfront, and would be deployed along the waterfront aboard small power boats equipped with necessary dive support gear. Similar upland facilities would also be required. The Combat Swimmers would rely completely on the NBK-Bangor initial detection and vectoring system to arrive at a position to interdict the intruders.

• Remote Operated Vehicle (ROV) Alternative: ROVs would be stationed at an existing pier at the NBK-Bangor waterfront. In-water and upland facilities would be located at the same sites as the other action alternatives. ROVs would be deployed from a boat located and available for use at the waterfront and an operator would utilize sonar and bright lights on board the ROV to maneuver toward and interdict the intruder. The ROVs would rely completely on the NBK-Bangor initial detection and vectoring system to arrive at a position within range to interdict the intruders.

• No action alternative: Under this alternative, no SISS would be implemented. This would not meet the project purpose and need. No new facilities would be constructed. The existing initial detection and vectoring system would be used to alert for potential threats, and harbor security forces would find and attempt to apprehend intruders without the aid of an underwater interdiction system.

The Navy conducted a literature review and held discussions with subject matter experts to identify alternatives for implementing the SISS. Nine action alternatives were identified. These alternatives were evaluated to determine their ability to meet the minimum operational selection criteria. All but three were eliminated from further consideration. The Sea Lions Only alternative was added for consideration following scoping.

The Navy analyzed potential effects of its current and proposed activities on marine mammals, fish, sea turtles, marine flora and invertebrates, terrestrial wildlife, sediments and water quality, cultural resources, recreation, land and shoreline use, public health and safety, socioeconomics and environmental justice, and air quality.

No significant adverse impacts are identified for any resource area. In accordance with Section 7 of the Endangered Species Act, the Navy is seeking concurrence with NMFS and U.S. Fish and Wildlife Service (USFWS) for “may affect, not likely to adversely affect” determinations for federally listed species. The Navy is coordinating with the Washington Department of Ecology for a Coastal Consistency Determination under the Coastal Zone Management Act. Navy analysis has indicated that under the Clean Air Act requirements, no significant impacts would occur to the regional air quality, and under the Clean Water Act there would be no significant impacts to water quality. National Historic Preservation Act analysis indicated that no significant impacts to cultural resources would occur if the proposed action or alternatives were implemented. Implementation of the No Action Alternative or any of the proposed action alternatives would not disturb, adversely affect, or result in any takes of bald eagles. None of the alternatives would result in a significant adverse effect on the population of a migratory bird species.

The decision to be made by the Assistant Secretary of the Navy (Installations & Environment) is to determine which alternatives analyzed in the EIS best meet the needs of the Navy given that all reasonably foreseeable environmental impacts have been considered.

The Draft EIS was distributed to Federal, State, and local agencies, elected officials, and other interested individuals and organizations on December 24, 2008. The public comment period will end on March 1, 2009. Copies of the Draft EIS are available for public review at the following libraries:

• Aberdeen Timberland Library, 121 E. Market St., Aberdeen, WA.

• Hoodsport Timberland Library, N. 40 Schoolhouse Hill Road, Hoodsport, WA.

• Jefferson County Rural Library District, 620 Cedar Avenue, Port Hadlock, WA.

• Kitsap Regional Library, 1301 Sylvan Way, Bremerton, WA.

• North Mason Timberland Library, 23801 NE State Rt. 3, Belfair, WA.

• Ocean Shores Public Library, 573 Pt. Brown Ave. NW, Ocean Shores, WA.

• Port Townsend Public Library, 1220 Lawrence St., Port Townsend, WA.

• Poulsbo Branch Library, 700 NE Lincoln St., Poulsbo, WA.

• Seattle Central Library, 1000 Fourth Ave. Seattle, WA.

• Tacoma Main Library, 1102 Tacoma Ave. S., Tacoma, WA.

• Quinault Indian Nation Tribal Library, P.O. Box 189, Taholah, WA.

• Skokomish Tribal Center, N 80 Tribal Center Road, Shelton, WA.

• Valley View Library, 17850 Military Rd. S., SeaTac, WA.

The SISS Draft EIS is also available for electronic public viewing at: http://www.nbkeis.gcsaic.com. Additional information about access to the SISS DEIS is available by contacting Navy Region North West, Environmental Public Affairs Office, Attn: Sheila Murray, 1100 Hunley Road, Building 1100 Silverdale, WA, 98315, 360-396-4981.

Federal, State, and local agencies and interested parties are invited to be present or represented at the public hearing. Written comments can also be submitted during the open house sessions preceding the public hearings.

Oral statements will be heard and transcribed by a stenographer; however, to ensure the accuracy of the record, all statements should be submitted in writing. All statements, both oral and written, will become part of the public record on the Draft EIS and will be responded to in the Final EIS. Equal weight will be given to both oral and written statements. In the interest of available time, and to ensure all who wish to give an oral statement have the opportunity to do so, each speaker's comments will be limited to three (3) minutes. If a long statement is to be presented, it should be summarized at the public hearing with the full text submitted either in writing at the hearing, or mailed or faxed to Department of the Navy, SSC Pacific, 53560 Hull St., San Diego, CA 92152, Attn: Mike Rothe, Fax: 619-221-5251, e-mail: NBKEIS@spawar.navy.mil during the comment period. All written comments must be postmarked by March 1, 2009, to ensure they become part of the official record. All comments will be addressed in the Final EIS.

Dated: December 22, 2008.
T. M. Cruz,
Lieutenant Commander, Office of the Judge Advocate General, U.S. Navy, Federal Register Liaison Officer.

[FR Doc. E8-31200 Filed 12-31-08; 8:45 am]

BILLING CODE 3810-FF-P